SMALL BUSINESS ADMINISTRATION

[Declaration of Disaster #3320]

State of Washington; Amendment #4

In accordance with a notice received from the Federal Emergency Management Agency, dated March 22, 2001, the above-numbered Declaration is hereby amended to include Benton, Clallam, Clark and Whatcom counties in the State of Washington as disaster areas due to damages caused by the earthquake beginning on February 28, 2001 and continuing through March 16, 2001.

In addition, applications for economic injury loans from small businesses located in Franklin and Walla Walla counties in the State of Washington; Umatilla and Morrow in the State of Oregon may be filed until the specified date at the previously designated location. Any counties contiguous to the above named primary counties and not listed here have been previously declared.

All other information remains the same, i.e., the deadline for filing applications for physical damage is April 30, 2001 and for economic injury the deadline is November 30, 2001.

(Catalog of Federal Domestic Assistance Program Nos. 59002 and 59008)
Dated: March 23, 2001.
James E. Rivera,
Acting Associate Administrator for Disaster Assistance.

[FR Doc. 01-7753 Filed 3-28-01; 8:45 am]

BILLING CODE 8025-01-P